DEPARTMENT OF ENERGY

Federal Energy Regulatory Commission

[Docket No. CP08-30-000; Docket No. PF07-6-000]

Colorado Interstate Gas Company; Notice of Application

December 11, 2007.

Take notice that on November 29, 2007, Colorado Interstate Gas Company (CIG), Post Office Box 1087, Colorado Springs, Colorado 80944, filed in Docket No. CP08-30-000, an application, pursuant to section 7 of the Natural Gas Act (NGA), for a certificate authorizing the construction and operation of a new underground natural gas storage facility in Adams County, Colorado. The proposed Totem Gas Storage Field Project will be comprised of 13 injection and withdrawal wells, a water disposal well, gathering pipelines, observation wells, a dehydration and dew point control plant and a compressor station with approximately 9,400 horsepower. CIG is also proposing to establish new firm, interruptible and balancing rate schedules for inclusion in its FERC Gas Tariff for services from the storage facility. CIG estimates that the new storage facility will have a working gas capacity of 7.0 Bcf, an injection rate of 100 MMcf per day and a withdrawal rate of 200 MMcf per day. CIG's proposal is more fully described as set forth in the application that is on file with the Commission and open to public inspection. This filing may also be viewed on the Commission's Web site at http://www.ferc.gov using the “eLibrary” link. Enter the docket number, excluding the last three digits, in the docket number field to access the document. There is an “eSubscription” link on the Web site that enables subscribers to receive e-mail notification when a document is added to a subscribed docket(s). For assistance with any FERC Online service, please e-mail FERCOnlineSupport@ferc.gov, or call (866) 208-3676 (toll free). For TTY, call (202) 502-8659.

Any questions regarding this application should be directed to Richard Derryberry, Director of Regulatory Affairs, Colorado Interstate Gas Company, P.O. Box 1087, Colorado Springs, Colorado 80944 at (719) 520-3782 or by fax at (719) 667-7534.

Pursuant to § 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street, NE., Washington, DC 20426.

On March 15, 2007, the Commission staff granted CIG's request to utilize the Pre-Filing Process and assigned Docket No. PF07-6-000 to staff activities involving CIG's proposal. Now, as of the filing of CIG's application on November 29, 2007, the Pre-Filing Process for this project has officially concluded. And while the PF Docket Number is now closed, all of the information contained in the Pre-Filing Process will become part of the certificate proceeding. From this time forward, CIG's proceeding will be conducted in Docket No. CP07-30-000, as noted in the caption of this Notice. All future correspondence should refer to this CP docket number only.

Comment Date: January 4, 2008.

Kimberly D. Bose,
Secretary.

[FR Doc. E7-24414 Filed 12-17-07; 8:45 am]

BILLING CODE 6717-01-P